DEPARTMENT OF COMMERCE

International Trade Administration

[A-489-829]

Steel Concrete Reinforcing Bar From the Republic of Türkiye: Final Results of the Antidumping Duty Administrative Review; 2022-2023

AGENCY: Enforcement and Compliance, International Trade Administration, Department of Commerce.

SUMMARY: The U.S. Department of Commerce (Commerce) finds that certain producers/exporters of steel concrete reinforcing bar (rebar) from the Republic of Türkiye (Türkiye) subject to this administrative review made sales of subject merchandise at below normal value during the period of review (POR) July 1, 2022, through June 30, 2023.

DATES: Applicable May 19, 2025.

FOR FURTHER INFORMATION CONTACT: Samuel Evans or Elizabeth Beuley, AD/CVD Operations, Office IX, Enforcement and Compliance, International Trade Administration, U.S. Department of Commerce, 1401 Constitution Avenue NW, Washington, DC 20230; telephone: (202) 482-2420 or (202) 482-3269, respectively.

SUPPLEMENTARY INFORMATION:

Background

On August 15, 2024, Commerce published the Preliminary Results in the Federal Register and invited interested parties to comment.¹ On November 14, 2024, we extended the deadline for these final results.² On December 9, 2024, Commerce tolled certain deadlines in this administrative proceeding by 90 days.³ Accordingly, the deadline for these final results is now May 12, 2025. For a complete description of the events that occurred since the Preliminary Results, see the Issues and Decision Memorandum.⁴ Commerce conducted this administrative review in accordance with section 751 of the Tariff Act of 1930, as amended (the Act).

¹ See Steel Concrete Reinforcing Bar from the Republic of Türkiye: Preliminary Results of Antidumping Duty Administrative Review; 2022-2023, 89 FR 66350 (August 15, 2024) (Preliminary Results), and accompanying Preliminary Decision Memorandum (PDM).

² See Memorandum, “Extension of Deadline for Final Results of 2022-2023 Antidumping Duty Administrative Review,” dated November 14, 2024.

³ See Memorandum, “Tolling of Deadlines for Antidumping and Countervailing Duty Proceedings,” dated December 9, 2024.

⁴ See Memorandum, ” Issues and Decision Memorandum for the Final Results of the Antidumping Duty Administrative Review of Steel Concrete Reinforcing Bar from the Republic of Türkiye; 2022-2023,” dated concurrently with, and hereby adopted by, this notice (Issues and Decision Memorandum).

Scope of the Order ⁵

⁵ See Steel Concrete Reinforcing Bar from the Republic of Türkiye and Japan: Amended Final Affirmative Antidumping Duty Determination for the Republic of Türkiye and Antidumping Duty Orders, 82 FR 32532 (July 14, 2017), as amended by Notice of Court Decision Not in Harmony with the Amended Final Determination in the Less-Than-Fair-Value Investigation; Notice of Amended Final Determination, 87 FR 934 (January 22, 2022) (collectively, Order).

The merchandise covered by the Order is rebar from Türkiye. For a full description of the scope of the Order, see the Issue and Decision Memorandum.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties, we made certain changes to the margin calculations for Colakoglu Metalurji A.S./Colakoglu Dis Ticaret A.S. (collectively, Colakoglu) and Icdas Celik Enerju Tersane ve Ulasim Sanayi A.S. (Icdas) from the Preliminary Results.⁶

⁶ For a full description of changes, see Issues and Decision Memorandum.

Rate for Companies Not Selected for Individual Examination

Generally, Commerce looks to section 735(c)(5) of the Act, which provides instructions for calculating the all-others rate in an in a less-than-fair-value (LTFV) investigation, for guidance for calculating the rate for companies which were not selected for individual examination in an administrative review. Section 735(c)(5)(A) of the Act provides that the all-others should be calculated by weight averaging the weighted-average dumping margins determined for individually-examined respondents, excluding rates that are zero, de minimis, or based entirely on facts available.

We calculated a weighted-average dumping margin of zero for one of the two mandatory respondents, Icdas. Therefore, we have assigned a dumping margin to Kaptan Demir Celik Endustrisi Ve Ticaret A.S./Kaptan Metal Dis Ticaret Ve Nakliyat A.S. (collectively, Kaptan), the company not selected for individual examination in this review, based on the rate calculated for the other mandatory respondent, Colakoglu.

Final Results of Review

As a result of this review, we determine the following estimated weighted-average dumping margins for the period July 1, 2022, through June 30, 2023:

Producer or exporter | Weighted-average dumping margin (percent)
Colakoglu Metalurji A.S./Colakoglu Dis Ticaret A.S | 1.13
Icdas Celik Enerju Tersane ve Ulasim Sanayi A.S | 0.00
Kaptan Demir Celik Endustrisi Ve Ticaret A.S./Kaptan Metal Dis Ticaret Ve Nakliyat A.S | 1.13

Disclosure

Commerce intends to disclose the calculations performed for these final results within five days of any public announcement or, if there is no public announcement, within five days of the date of publication of this notice in the Federal Register, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), because Colakoglu reported the entered value for its U.S. sales, we calculated importer-specific ad valorem antidumping duty assessment rates based on the ratio of the total amount of antidumping duties calculated for the examined sales to the total entered value of those same sales. Where either a respondent's weighted-average dumping margin is zero or de minimis within the meaning of 19 CFR 351.106(c)(1), or an importer-specific assessment rate is zero or de minimis, we will instruct CBP to liquidate the appropriate entries without regard to antidumping duties.⁷ For Kaptan, which was not selected for individual examination, we will instruct CBP to liquidate entries at the rate assigned in these final results of review, calculated as noted in the “Rate for Companies Not Selected for Individual Examination” section, above.

⁷ See 19 CFR 351.212(c)(2).

Commerce's “automatic assessment” practice will apply to entries of subject merchandise during the POR produced by Colakoglu or Icdas for which the producer did not know that the merchandise it sold to the intermediary (e.g., a reseller, trading company, or exporter) was destined for the United States. In such instances, we will instruct CBP to liquidate unreviewed entries at the all-others rate if there is no rate for the intermediate company(ies) involved in the transaction.⁸

⁸ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies under review will be equal to the weighted-average dumping margin established in the final results of this review, except if the rate is less than 0.50 percent and, therefore, de minimis within the meaning of 19 CFR 351.106(c)(1), in which case the cash deposit rate will be zero; (2) for previously investigated or reviewed companies not covered in this review, the cash deposit rate will continue to be the company-specific rate published for the most recently completed segment of this proceeding in which the company participated; (3) if the exporter is not a firm covered in this review, or the LTFV investigation, but the manufacturer is, the cash deposit rate will be the cash deposit rate established for the most recently completed segment for the producer of the subject merchandise; and (4) the cash deposit rate for all other producers or exporters will continue to be 3.90 percent, the all-others rate established in the LTFV investigation.⁹ These deposit requirements, when imposed, shall remain in effect until further notice.

⁹ See Order, 87 FR at 935.

Notification to Importers

This notice serves as a final reminder to importers of their responsibility under 19 CFR 351.402(f)(2) to file a certificate regarding the reimbursement of antidumping duties and/or countervailing duties prior to liquidation of the relevant entries during this review period. Failure to comply with this requirement could result in Commerce's presumption that reimbursement of antidumping and/or countervailing duties occurred and the subsequent assessment of double antidumping duties, and/or increase in the amount of antidumping duties by the amount of the countervailing duties.

Administrative Protective Order (APO)

This notice serves as the only reminder to parties subject to APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Dated: May 12, 2025.
Abdelali Elouaradia,
Deputy Assistant Secretary for Enforcement and Compliance.

Appendix

List of Topics Discussed in the Issues and Decision Memorandum

I. Summary

II. Background

III. Changes Since the Preliminary Results

IV. Scope of the Order

V. Discussion of the Issues

Comment 1: Whether to Include Certain Movement Expenses in Icdas' Normal Value (NV) Calculation

Comment 2: Whether Commerce Used the Appropriate Date of Sale for Colakoglu

Comment 3: Whether Commerce Should Utilize the Cohen's d Test for Colakoglu

VI. Recommendation

[FR Doc. 2025-08894 Filed 5-16-25; 8:45 am]

BILLING CODE 3510-DS-P